DEPARTMENT OF TRANSPORTATION

Federal Highway Administration

Rescinding a Notice of Intent To Prepare an Environmental Impact Statement: Delaware County, NY

AGENCY: Federal Highway Administration (FHWA), United States Department of Transportation (DOT).

ACTION: Notice.

SUMMARY: The FHWA, in cooperation with the New York State Department of Transportation (NYSDOT), is issuing this notice to advise the public that we are rescinding the 2001 Notice of Intent (NOI) to prepare an Environmental Impact Statement (EIS) for a previous proposal to improve NYS Route 17 in Delaware County, New York (the Project, NYSDOT Project Identification Number [PIN] 9066.91). FHWA is rescinding the NOI because a substantial amount of time has passed since its original publication, and previously identified funding and design resources were reprioritized and reallocated to other needs, preventing the progression of the Project.

FOR FURTHER INFORMATION CONTACT: Richard J. Marquis, Division Administrator, Federal Highway Administration, New York Division, Leo W. O'Brien Federal Building, 11A Clinton Avenue, Suite 719, Albany, New York 12207, Telephone: (518) 431-4127; or James Rusak, P.E., Regional Director, New York State Department of Transportation, Region 9, Binghamton State Office Building, 44 Hawley Street, Binghamton, New York 13901, Telephone: (607) 721-8116.

SUPPLEMENTARY INFORMATION: The FHWA, in cooperation with the NYSDOT, previously intended to prepare an EIS to improve a section of the NYS Route 17 corridor within the Towns of Deposit and Hancock in Delaware County, New York. The NOI was published in the Federal Register on July 9, 2001, at 66 FR 35824.

The NOI indicated that the Project objectives were to eliminate all at-grade intersections and driveways on NYS Route 17 between Hale Eddy and Hancock and to upgrade NYS Route 17 to Interstate standards for the designation of NYS Route 17 to Interstate 86.

As stated in the 2001 NOI, alternatives under consideration included (1) Do Nothing and (2) Controlled access freeway, built to Interstate standards, with at least one full interchange serving the community of Hale Eddy. Several alignment alternatives were under consideration for further study under the controlled access freeway alternative, which generally included new interchanges and reconstruction of the freeway. Within all of the alternatives, various options for maintaining access to existing properties incorporating service roads were under study. Incorporated into and studied with the various alternatives were design variations of grade and alignment.

Development of the EIS and advancement of the Project was delayed primarily due to increased Project costs and reprioritization of funding. Funding constraints and a subsequent shift in overall NYSDOT priorities led to reprioritization of budget allocations and design resources. Since the Project has not progressed, and because a substantial amount of time has passed since the original NOI was published, the 2001 NOI is being rescinded. The FHWA and NYSDOT will reassess the transportation needs for the NYS Route 17 corridor at this location. If a new action is proposed warranting preparation of an EIS, a new NOI will be published in the future.

Comments and questions concerning this recission should be directed to the FHWA or NYSDOT at the addresses provided above.

Richard J. Marquis,
Division Administrator, HDA-NY, Federal Highway Administration.

[FR Doc. 2023-21056 Filed 9-26-23; 8:45 am]

BILLING CODE 4910-RY-P